GENERAL SERVICES ADMINISTRATION

[Notice-PBS-2021-04; Docket No. 2020-0002; Sequence No. 14]

Revised Notice of Intent/Revised Project Action and Notice of Availability for Land Ports of Entry (LPOE)

AGENCY: Public Buildings Service (PBS), Pacific Rim Division, General Services Administration (GSA).

ACTION: Notice.

SUMMARY: GSA has prepared a Final Environmental Assessment (EA) and separate Finding of No Significant Impact (FONSI) which analyzed the potential impacts from the proposed construction of the Federal Motor Carrier Safety Administration (FMCSA) standalone bus inspection facility at the San Ysidro Land Port of Entry (LPOE) in San Diego, California. The two alternatives analyzed include: New “Basic” Facility Buildout; No Build Action. GSA is advising the public that the Final EA and FONSI are available for public comment.

DATES: Due to the COVID-19 pandemic and to ensure the safety of the public, a formal, in-person public meeting will not be held to solicit comments and provide information about the Final EA and FONSI.

ADDRESSES: The Final EA can be viewed on the GSA website at www.gsa.gov/r9fmcsa. In addition, copies may be obtained by calling or writing to the individual listed in this notice under the FOR FURTHER INFORMATION CONTACT section.

We will consider all comments that we receive on or before Monday, August 9, 2021. You may submit comments by either of the following methods:

• Electronic Mail: osmahn.kadri@gsa.gov.

• Postal Mail/Commercial Delivery: Send your comment to: Tina Sekula, JMT Inc., 1130 Situs Court, Suite 200, Raleigh, NC 27606.

FOR FURTHER INFORMATION CONTACT:

• Email: Osmahn Kadri at osmahn.kadri@gsa.gov.

• Telephone: (415) 522-3617.

• *NOTE* PLEASE DO NOT MAIL COMMENTS VIA THE U.S. POSTAL SERVICE (USPS) TO THE GSA MAILING ADDRESS AT THIS TIME. USPS MAIL CAN BE SENT TO JMT INC AT THE ADDRESS ABOVE.

SUPPLEMENTARY INFORMATION: The Final EA and FONSI have been prepared to comply with the National Environmental Policy Act (NEPA) of 1969, as amended (42 U.S. Code [U.S.C.] 4321), as implemented by Council on Environmental Quality (CEQ) regulations (40 Code of Federal Regulations [CFR] 1500-1508), and policies of the GSA as the lead federal agency. The EA process provides steps and procedures to evaluate the potential social, economic, and environmental impacts from the construction of the proposed FMCSA Bus Inspection Facility at the San Ysidro LPOE while providing an opportunity for local, state, or federal agencies to provide input and/or comment through scoping, public information meetings, and/or a public hearing. The social, economic, and environmental considerations are evaluated and measured, as defined in the CEQ regulations, by their magnitude of impacts.

The bus inspection station allows for FMCSA to conduct inspections of buses entering the United States from Mexico. FMCSA is required to conduct meaningful vehicle safety inspections and to accommodate vehicles placed out of service because of these inspections. The current bus inspection operations at the San Ysidro LPOE lacks the necessary infrastructure for bus inspections and is not adequate to maintain regular inspections. Therefore, the LPOE does not efficiently address safety needs for the travelling public, FMCSA staff, nor the capacity needs identified in future traffic projections at the LPOE. The lack of dedicated bus inspection infrastructure exposes FMCSA to safety risks while conducting inspections and is not in conformance with current FMCSA safety standards. GSA proposes to construct a new FMCSA Bus Inspection facility on a 1.5-acre parcel located north of the existing LPOE.

A public scoping meeting on the project was held on June 18, 2019. Comments received during the meeting were considered by GSA in a Draft EA. The Draft EA was made available for public comment on May 15, 2020. Comments received during the one-month comment period were considered by GSA in this Final EA. The FONSI, which is based on the Final EA, reflects the GSA's determination that construction of the proposed facility will not have a significant impact on the quality of the human or natural environment.

Russell Larson,
Director, Portfolio Management Division, Pacific Rim Region, Public Buildings Service.

[FR Doc. 2021-14510 Filed 7-7-21; 8:45 am]

BILLING CODE 6820-YF-P